DEPARTMENT OF THE TREASURY

Fiscal Service

Surety Companies Acceptable on Federal Bonds: The Charter Oak Fire Insurance Company (NAIC #25615); Travelers Property Casualty Company of America (NAIC #25674); The Travelers Indemnity Company of Connecticut (NAIC #25682); The Travelers Indemnity Company of America (NAIC #25666)

AGENCY: Bureau of the Fiscal Service, Fiscal Service, Department of the Treasury.

ACTION: Notice.

SUMMARY: This is Supplement No. 7 to the Treasury Department Circular 570, 2014 Revision, published July 1, 2014, at 79 FR 37398.

FOR FURTHER INFORMATION CONTACT: Surety Bond Branch at (202) 874-6850.

SUPPLEMENTARY INFORMATION: A Certificate of Authority as an acceptable surety on Federal bonds is hereby issued under 31 U.S.C. 9305 to the following companies:

The Charter Oak Fire Insurance Company (NAIC #25615)

BUSINESS ADDRESS: One Travelers Square, Hartford, CT 06183, PHONE: (860) 277-0111. UNDERWRITING LIMITATION b/:$24,592,000. SURETY LICENSES c/: AL, AK, AZ, AR, CO, CT, DE, DC, FL, GA, HI, ID, IL, IN, IA, KS, KY, LA, ME, MD, MA, MI, MN, MS, MO, MT, NE, NV, NH, NJ, NM, NY, NC, ND, OH, OK, OR, PA, PR, RI, SC, SD, TN, TX, UT, VT, VA, WA, WV, WI, WY. INCORPORATED IN: Connecticut.

Travelers Property Casualty Company of America (NAIC #25674)

BUSINESS ADDRESS: One Travelers Square, Hartford, CT 06183, PHONE: (860) 277-0111. UNDERWRITING LIMITATION b/:$48,701,000. SURETY LICENSES c/: AL, AK, AZ, AR, CA, CO, CT, DE, DC, FL, GA, HI, ID, IL, IN, IA, KS, KY, LA, ME, MD, MA, MI, MN, MS, MO, MT, NE, NV, NH, NJ, NM, NY, NC, ND, OH, OK, OR, PA, RI, SD, TN, TX, UT, VT, VA, WA, WV, WI, WY. INCORPORATED IN: Connecticut.

The Travelers Indemnity Company of Connecticut (NAIC #25682)

BUSINESS ADDRESS: One Travelers Square, Hartford, CT 06183, PHONE: (860) 277-0111. UNDERWRITING LIMITATION b/:$36,557,000. SURETY LICENSES c/: AL, AK, AZ, AR, CA, CO, CT, DE, DC, FL, GA, HI, ID, IL, IN, IA, KS, KY, LA, ME, MD, MA, MI, MN, MS, MO, MT, NE, NV, NH, NJ, NM, NY, NC, ND, OH, OK, OR, PA, PR, RI, SC, SD, TN, TX, UT, VT, VA, VI, WA, WV, WI, WY. INCORPORATED IN: Connecticut.

The Travelers Indemnity Company of America (NAIC #25666)

BUSINESS ADDRESS: One Travelers Square, Hartford, CT 06183, PHONE: (860) 277-0111. UNDERWRITING LIMITATION b/:$19,451,000. SURETY LICENSES c/: AL, AK, AZ, AR, CO, CT, DC, FL, GA, HI, ID, IL, IN, IA, KS, KY, LA, MD, MA, MI, MN, MS, MO, MT, NE, NV, NH, NJ, NM, NY, NC, ND, OH, OK, OR, PA, RI, SD, TN, TX, UT, VT, VA, WA, WV, WI, WY. INCORPORATED IN: Connecticut.

Federal bond-approving officers should annotate their reference copies of the Treasury Circular 570 (“Circular”), 2014 Revision, to reflect this addition.

Certificates of Authority expire on June 30th each year, unless revoked prior to that date. The Certificates are subject to subsequent annual renewal as long as the companies remain qualified (see 31 CFR part 223). A list of qualified companies is published annually as of July 1st in the Circular, which outlines details as to the underwriting limitations, areas in which companies are licensed to transact surety business, and other information.

The Circular may be viewed and downloaded through the Internet at www.fiscal.treasury.gov/fsreports/ref/suretyBnd/surety_home.htm.

Questions concerning this Notice may be directed to the U.S. Department of the Treasury, Bureau of the Fiscal Service, Financial Accounting and Services Branch, Surety Bond Branch, 3700 East-West Highway, Room 6D22, Hyattsville, MD 20782.

Dated: March 26, 2015.
Kevin McIntyre,
Manager, Financial Accounting and Services Branch.

[FR Doc. 2015-08043 Filed 4-7-15; 8:45 am]

BILLING CODE 4810-35-P